POSTAL REGULATORY COMMISSION

39 CFR Part 3020

[Docket Nos. MC2010-21 and CP2010-36]

Update to Product Lists

AGENCY: Postal Regulatory Commission.

ACTION: Final rule.

SUMMARY: The Commission is updating the product lists. This action reflects a publication policy adopted by Commission order. The referenced policy assumes periodic updates. The updates are identified in the body of this document. The product lists, which are re-published in their entirety, include these updates.

DATES: Effective Date: November 13, 2019. For applicability dates, see SUPPLEMENTARY INFORMATION.

FOR FURTHER INFORMATION CONTACT: David A. Trissell, General Counsel, at 202-789-6800.

SUPPLEMENTARY INFORMATION:

Applicability Dates: July 2, 2019, Priority Mail Express & Priority Mail Contract 95 (MC2019-157 and CP2019-175); July 12, 2019, Priority Mail Express, Priority Mail & First-Class Package Service Contract 63 (MC2019-158 and CP2019-177); July 18, 2019, Priority Mail & First-Class Package Service Contract 106 (MC2019-160 and CP2019-180); July 18, 2019, Priority Mail Contract 536 (MC2019-161 and CP2019-181); July 19, 2019, Priority Mail & First-Class Package Service Contract 105 (MC2019-159 and CP2019-179); July 23, 2019, Priority Mail Contract 537 (MC2019-163 and CP2019-183); July 23, 2019, Priority Mail Express Contract 78 (MC2019-162 and CP2019-182); July 23, 2019, Priority Mail & First-Class Package Service Contract 107 (MC2019-164 and CP2019-184); July 24, 2019, Priority Mail & First-Class Package Service Contract 108 (MC2019-165 and CP2019-185); July 24, 2019, Priority Mail & First-Class Package Service Contract 109 (MC2019-166 and CP2019-186); July 26, 2019, Priority Mail & First-Class Package Service Contract 110 (MC2019-167 and CP2019-187); July 30, 2019, First-Class Package Service Contract 100 (MC2019-169 and CP2019-191); July 30, 2019, Priority Mail Contract 539 (MC2019-170 and CP2019-192); August 1, 2019, Priority Mail Contract 538 (MC2019-168 and CP2019-190); August 6, 2019, Priority Mail Contract 541 (MC2019-172 and CP2019-194); August 6, 2019, Priority Mail Contract 540 (MC2019-171 and CP2019-193); August 7, 2019, Priority Mail Express & Priority Mail Contract 96 (MC2019-173 and CP2019-195); August 7, 2019, First-Class Package Service Contract 101 (MC2019-174 and CP2019-196); August 7, 2019, Priority Mail Contract 542 (MC2019-175 and CP2019-197); August 8, 2019, Priority Mail Contract 544 (MC2019-177 and CP2019-199); August 8, 2019, Priority Mail Contract 543 (MC2019-176 and CP2019-198); August 12, 2019, Priority Mail Express, Priority Mail & First-Class Package Service Contract 64 (MC2019-178 and CP2019-200); August 12, 2019, Priority Mail Express & Priority Mail Contract 97 (MC2019-179 and CP2019-201); August 15, 2019, Priority Mail Contract 545 (MC2019-181 and CP2019-203); August 15, 2019, Priority Mail Contract 546 (MC2019-182 and CP2019-204); August 15, 2019, Priority Mail & First-Class Package Service Contract 111 (MC2019-183 and CP2019-205); August 15, 2019, Priority Mail & First-Class Package Service Contract 112 (MC2019-184 and CP2019-206); August 15, 2019, Priority Mail & First-Class Package Service Contract 113 (MC2019-185 and CP2019-207); August 22, 2019, Priority Mail & First-Class Package Service Contract 114 (MC2019-186 and CP2019-208); August 26, 2019, Parcel Select Contract 34 (MC2019-188 and CP2019-211); September 12, 2019, Priority Mail Express & Priority Mail Contract 98 (MC2019-190 and CP2019-213); September 12, 2019, Priority Mail Contract 547 (MC2019-189 and CP2019-212); September 18, 2019, Priority Mail Contract 548 (MC2019-191 and CP2019-214); September 18, 2019, Priority Mail & First-Class Package Service Contract 115 (MC2019-192 and CP2019-215); September 20, 2019, Market Test of Experimental Product—Plus One (MT2019-1); September 20, 2019, Priority Mail & First-Class Package Service Contract 116 (MC2019-193 and CP2019-216); September 20, 2019, Priority Mail & First-Class Package Service Contract 117 (MC2019-194 and CP2019-217); September 23, 2019, First-Class Package Service Contract 102 (MC2019-195 and CP2019-218); September 23, 2019, Priority Mail Contract 549 (MC2019-196 and CP2019-219); September 23, 2019, Priority Mail Contract 550 (MC2019-197 and CP2019-220); September 23, 2019, Priority Mail & First-Class Package Service Contract 118 (MC2019-198 and CP2019-221); September 23, 2019, Priority Mail Express, Priority Mail & First-Class Package Service Contract 65 (MC2019-199 and CP2019-222); September 27, 2019, Priority Mail Contract 551 (MC2019-200 and CP2019-223); September 27, 2019, Priority Mail Express, Priority Mail & First-Class Package Service Contract 66 (MC2019-201 and CP2019-224).

This document identifies updates to the market dominant and the competitive product lists, which appear as 39 CFR appendix A to subpart A of part 3020—Market Dominant Product List and 39 CFR appendix B to subpart A of part 3020—Competitive Product List, respectively. Publication of the updated product lists in the Federal Register is addressed in the Postal Accountability and Enhancement Act (PAEA) of 2006.

Authorization. The Commission process for periodic publication of updates was established in Docket Nos. MC2010-21 and CP2010-36, Order No. 445, April 22, 2010, at 8.

Changes. The product lists are being updated by publishing replacements in their entirety of 39 CFR appendix A to subpart A of part 3020—Market Dominant Product List and 39 CFR appendix B to subpart A of part 3020—Competitive Product List. The following products are being added, removed, or moved within the product lists:

Market Dominant Product List

1. Market Test of Experimental Product—Plus One (MT2019-1) (Order No. 5239), added September 20, 2019.

Competitive Product List

1. Priority Mail Express & Priority Mail Contract 95 (MC2019-157 and CP2019-175) (Order No. 5142), added July 2, 2019.

2. Priority Mail Express, Priority Mail & First-Class Package Service Contract 63 (MC2019-158 and CP2019-177) (Order No. 5150), added July 12, 2019.

3. Priority Mail & First-Class Package Service Contract 106 (MC2019-160 and CP2019-180) (Order No. 5158), added July 18, 2019.

4. Priority Mail Contract 536 (MC2019-161 and CP2019-181) (Order No. 5159), added July 18, 2019.

5. Priority Mail & First-Class Package Service Contract 105 (MC2019-159 and CP2019-179) (Order No. 5160), added July 19, 2019.

6. Priority Mail Contract 537 (MC2019-163 and CP2019-183) (Order No. 5161), added July 23, 2019.

7. Priority Mail Express Contract 78 (MC2019-162 and CP2019-182) (Order No. 5162), added July 23, 2019.

8. Priority Mail & First-Class Package Service Contract 107 (MC2019-164 and CP2019-184) (Order No. 5163), added July 23, 2019.

9. Priority Mail & First-Class Package Service Contract 108 (MC2019-165 and CP2019-185) (Order No. 5165), added July 24, 2019.

10. Priority Mail & First-Class Package Service Contract 109 (MC2019-166 and CP2019-186) (Order No. 5167), added July 24, 2019.

11. Priority Mail & First-Class Package Service Contract 110 (MC2019-167 and CP2019-187) (Order No. 5173), added July 26, 2019.

12. First-Class Package Service Contract 100 (MC2019-169 and CP2019-191) (Order No. 5174), added July 30, 2019.

13. Priority Mail Contract 539 (MC2019-170 and CP2019-192) (Order No. 5175), added July 30, 2019.

14. Priority Mail Contract 538 (MC2019-168 and CP2019-190) (Order No. 5177), added August 1, 2019.

15. Priority Mail Contract 541 (MC2019-172 and CP2019-194) (Order No. 5180), added August 6, 2019.

16. Priority Mail Contract 540 (MC2019-171 and CP2019-193) (Order No. 5181), added August 6, 2019.

17. Priority Mail Express & Priority Mail Contract 96 (MC2019-173 and CP2019-195) (Order No. 5182), added August 7, 2019.

18. First-Class Package Service Contract 101 (MC2019-174 and CP2019-196) (Order No. 5183), added August 7, 2019.

19. Priority Mail Contract 542 (MC2019-175 and CP2019-197) (Order No. 5184), added August 7, 2019.

20. Priority Mail Contract 544 (MC2019-177 and CP2019-199) (Order No. 5186), added August 8, 2019.

21. Priority Mail Contract 543 (MC2019-176 and CP2019-198) (Order No. 5187), added August 8, 2019.

22. Priority Mail Express, Priority Mail & First-Class Package Service Contract 64 (MC2019-178 and CP2019-200) (Order No. 5191), added August 12, 2019.

23. Priority Mail Express & Priority Mail Contract 97 (MC2019-179 and CP2019-201) (Order No. 5192), added August 12, 2019.

24. Priority Mail Contract 545 (MC2019-181 and CP2019-203) (Order No. 5194), added August 15, 2019.

25. Priority Mail Contract 546 (MC2019-182 and CP2019-204) (Order No. 5195), added August 15, 2019.

26. Priority Mail & First-Class Package Service Contract 111 (MC2019-183 and CP2019-205) (Order No. 5197), added August 15, 2019.

27. Priority Mail & First-Class Package Service Contract 112 (MC2019-184 and CP2019-206) (Order No. 5198), added August 15, 2019.

28. Priority Mail & First-Class Package Service Contract 113 (MC2019-185 and CP2019-207) (Order No. 5199), added August 15, 2019.

29. Priority Mail & First-Class Package Service Contract 114 (MC2019-186 and CP2019-208) (Order No. 5206), added August 22, 2019.

30. Parcel Select Contract 34 (MC2019-188 and CP2019-211) (Order No. 5210), added August 26, 2019.

31. Priority Mail Express & Priority Mail Contract 98 (MC2019-190 and CP2019-213) (Order No. 5227), added September 12, 2019.

32. Priority Mail Contract 547 (MC2019-189 and CP2019-212) (Order No. 5228), added September 12, 2019.

33. Priority Mail Contract 548 (MC2019-191 and CP2019-214) (Order No. 5235), added September 18, 2019.

34. Priority Mail & First-Class Package Service Contract 115 (MC2019-192 and CP2019-215) (Order No. 5236), added September 18, 2019.

35. Priority Mail & First-Class Package Service Contract 116 (MC2019-193 and CP2019-216) (Order No. 5240), added September 20, 2019.

36. Priority Mail & First-Class Package Service Contract 117 (MC2019-194 and CP2019-217) (Order No. 5241), added September 20, 2019.

37. First-Class Package Service Contract 102 (MC2019-195 and CP2019-218) (Order No. 5245), added September 23, 2019.

38. Priority Mail Contract 549 (MC2019-196 and CP2019-219) (Order No. 5246), added September 23, 2019.

39. Priority Mail Contract 550 (MC2019-197 and CP2019-220) (Order No. 5247), added September 23, 2019.

40. Priority Mail & First-Class Package Service Contract 118 (MC2019-198 and CP2019-221) (Order No. 5248), added September 23, 2019.

41. Priority Mail Express, Priority Mail & First-Class Package Service Contract 65 (MC2019-199 and CP2019-222) (Order No. 5249), added September 23, 2019.

42. Priority Mail Contract 551 (MC2019-200 and CP2019-223) (Order No. 5255), added September 27, 2019.

43. Priority Mail Express, Priority Mail & First-Class Package Service Contract 66 (MC2019-201 and CP2019-224) (Order No. 5256), added September 27, 2019.

The following negotiated service agreements have expired, or have been terminated early, and are being deleted from the Competitive Product List:

1. Parcel Select Contract 2 (MC2012-16 and CP2012-23) (Order No. 1349).

2. Priority Mail Contract 123 (MC2015-52 and CP2015-80) (Order No. 2535).

3. Priority Mail Express & Priority Mail Contract 21 (MC2016-14 and CP2016-17) (Order No. 2822).

4. Priority Mail Contract 177 (MC2016-57 and CP2016-72) (Order No. 2984).

5. Priority Mail Contract 175 (MC2016-53 and CP2016-68) (Order No. 2991).

6. Priority Mail Contract 186 (MC2016-71 and CP2016-86) (Order No. 3001).

7. First-Class Package Service Contract 41 (MC2016-73 and CP2016-88) (Order No. 3002).

8. Parcel Select Contract 13 (MC2016-75 and CP2016-93) (Order No. 3023).

9. Priority Mail & First-Class Package Service Contract 13 (MC2016-76 and CP2016-98) (Order No. 3067).

10. First-Class Package Service Contract 44 (MC2016-82 and CP2016-107) (Order No. 3120).

11. Priority Mail Contract 192 (MC2016-86 and CP2016-111) (Order No. 3140).

12. Priority Mail & First-Class Package Service Contract 15 (MC2016-89 and CP2016-114) (Order No. 3147).

13. Priority Mail Contract 199 (MC2016-100 and CP2016-128) (Order No. 3188).

14. Priority Mail Contract 200 (MC2016-101 and CP2016-129) (Order No. 3194).

15. Priority Mail Express Contract 35 (MC2016-107 and CP2016-135) (Order No. 3201).

16. First-Class Package Service Contract 52 (MC2016-130 and CP2016-164) (Order No. 3289).

17. Priority Mail Contract 216 (MC2016-133 and CP2016-170) (Order No. 3340).

18. Priority Mail Contract 221 (MC2016-144 and CP2016-181) (Order No. 3350).

19. Priority Mail Contract 223 (MC2016-146 and CP2016-183) (Order No. 3354).

20. Priority Mail Contract 226 (MC2016-153 and CP2016-216) (Order No. 3399).

21. Priority Mail Express, Priority Mail & First-Class Package Service Contract 10 (MC2016-160 and CP2016-231) (Order No. 3417).

22. Priority Mail Contract 229 (MC2016-159 and CP2016-230) (Order No. 3418).

23. Priority Mail & First-Class Package Service Contract 21 (MC2016-165 and CP2016-239) (Order No. 3437).

24. First-Class Package Service Contract 59 (MC2016-171 and CP2016-249) (Order No. 3453).

25. Priority Mail Express Contract 40 (MC2016-169 and CP2016-247) (Order No. 3454).

26. Priority Mail & First-Class Package Service Contract 25 (MC2016-174 and CP2016-253) (Order No. 3465).

27. Priority Mail Express & Priority Mail Contract 30 (MC2016-175 and CP2016-254) (Order No. 3466).

28. Priority Mail & First-Class Package Service Contract 26 (MC2016-177 and CP2016-256) (Order No. 3476).

29. First-Class Package Service Contract 60 (MC2016-176 and CP2016-255) (Order No. 3477).

30. Priority Mail Contract 233 (MC2016-179 and CP2016-258) (Order No. 3478).

31. Priority Mail Express Contract 41 (MC2016-180 and CP2016-259) (Order No. 3479).

32. Priority Mail Contract 232 (MC2016-178 and CP2016-257) (Order No. 3481).

33. Priority Mail Express & Priority Mail Contract 31 (MC2016-182 and CP2016-262) (Order No. 3483).

34. Priority Mail & First-Class Package Service Contract 27 (MC2016-183 and CP2016-263) (Order No. 3485).

35. Priority Mail & First-Class Package Service Contract 28 (MC2016-184 and CP2016-264) (Order No. 3486).

36. Priority Mail Express & Priority Mail Contract 33 (MC2016-186 and CP2016-267) (Order No. 3503).

37. Priority Mail Express & Priority Mail Contract 32 (MC2016-185 and CP2016-266) (Order No. 3504).

38. Priority Mail Express & Priority Mail Contract 34 (MC2016-187 and CP2016-268) (Order No. 3508).

39. Priority Mail & First-Class Package Service Contract 30 (MC2016-189 and CP2016-272) (Order No. 3514).

40. Priority Mail Contract 235 (MC2016-190 and CP2016-273) (Order No. 3515).

41. Priority Mail & First-Class Package Service Contract 29 (MC2016-188 and CP2016-271) (Order No. 3516).

42. Priority Mail Contract 238 (MC2016-193 and CP2016-276) (Order No. 3522).

43. Priority Mail & First-Class Package Service Contract 31 (MC2016-194 and CP2016-277) (Order No. 3523).

44. First-Class Package Service Contract 61 (MC2016-195 and CP2016-278) (Order No. 3524).

45. First-Class Package Service Contract 63 (MC2016-198 and CP2016-282) (Order No. 3529).

46. Priority Mail Contract 239 (MC2016-199 and CP2016-283) (Order No. 3533).

47. First-Class Package Service Contract 62 (MC2016-197 and CP2016-281) (Order No. 3534).

48. Priority Mail Contract 256 (MC2017-17 and CP2017-36) (Order No. 3627).

49. Priority Mail Contract 262 (MC2017-29 and CP2017-54) (Order No. 3662).

50. Priority Mail Contract 275 (MC2017-52 and CP2017-78) (Order No. 3702).

51. Priority Mail Express Contract 45 (MC2017-92 and CP2017-126) (Order No. 3802).

52. First-Class Package Service Contract 74 (MC2017-96 and CP2017-136) (Order No. 3833).

53. Priority Mail Contract 300 (MC2017-101 and CP2017-148) (Order No. 3844).

54. Priority Mail Contract 306 (MC2017-111 and CP2017-159) (Order No. 3860).

55. Priority Mail Contract 324 (MC2017-139 and CP2017-198) (Order No. 3955).

56. Priority Mail Express & Priority Mail Contract 49 (MC2017-147 and CP2017-206) (Order No. 3966).

57. Priority Mail Express Contract 49 (MC2017-149 and CP2017-210) (Order No. 3981).

58. Priority Mail Contract 345 (MC2017-180 and CP2017-281) (Order No. 4092).

59. First-Class Package Service Contract 80 (MC2017-194 and CP2017-295) (Order No. 4110).

60. Parcel Select Contract 23 (MC2017-211 and CP2017-319) (Order No. 4149).

61. First-Class Package Service Contract 83 (MC2018-1 and CP2018-1) (Order No. 4159).

62. Priority Mail Contract 379 (MC2018-36 and CP2018-66) (Order No. 4269).

63. Priority Mail Contract 387 (MC2018-52 and CP2018-83) (Order No. 4290).

64. First-Class Package Service Contract 88 (MC2018-60 and CP2018-100) (Order No. 4316).

65. Priority Mail & First-Class Package Service Contract 66 (MC2018-62 and CP2018-102) (Order No. 4318).

66. Priority Mail Contract 393 (MC2018-64 and CP2018-104) (Order No. 4320).

67. Priority Mail Express & Priority Mail Contract 58 (MC2018-88 and CP2018-130) (Order No. 4350).

68. Priority Mail Contract 412 (MC2018-107 and CP2018-149) (Order No. 4372).

69. Priority Mail Contract 420 (MC2018-118 and CP2018-160) (Order No. 4379).

70. Priority Mail Express & Priority Mail Contract 60 (MC2018-114 and CP2018-156) (Order No. 4381).

71. Priority Mail Contract 419 (MC2018-117 and CP2018-159) (Order No. 4390).

72. Parcel Select Contract 30 (MC2018-122 and CP2018-165) (Order No. 4406).

73. Priority Mail Contract 426 (MC2018-134 and CP2018-190) (Order No. 4564).

74. Priority Mail Contract 429 (MC2018-141 and CP2018-202) (Order No. 4584).

75. Priority Mail Express, Priority Mail & First-Class Package Service Contract 34 (MC2018-147 and CP2018-211) (Order No. 4603).

76. Priority Mail Contract 435 (MC2018-157 and CP2018-226) (Order No. 4637).

77. Priority Mail Contract 436 (MC2018-159 and CP2018-229) (Order No. 4644).

78. Priority Mail Contract 443 (MC2018-168 and CP2018-240) (Order No. 4663).

79. Priority Mail Express Contract 63 (MC2018-181 and CP2018-255) (Order No. 4686).

80. Priority Mail Contract 449 (MC2018-182 and CP2018-256) (Order No. 4687).

81. Priority Mail Contract 454 (MC2018-195 and CP2018-273) (Order No. 4734).

82. Priority Mail Contract 460 (MC2018-204 and CP2018-284) (Order No. 4770).

83. Priority Mail Contract 467 (MC2019-2 and CP2019-2) (Order No. 4858).

84. Priority Mail Contract 477 (MC2019-20 and CP2019-20) (Order No. 4891).

85. Priority Mail Express Contract 66 (MC2019-24 and CP2019-25) (Order No. 4901).

86. Priority Mail Express Contract 67 (MC2019-25 and CP2019-26) (Order No. 4903).

87. Priority Mail Contract 482 (MC2019-29 and CP2019-30) (Order No. 4908).

88. Priority Mail Contract 484 (MC2019-31 and CP2019-32) (Order No. 4909).

89. Priority Mail Express & Priority Mail Contract 76 (MC2019-34 and CP2019-35) (Order No. 4913).

90. Priority Mail Express Contract 68 (MC2019-32 and CP2019-33) (Order No. 4917).

91. Priority Mail Contract 493 (MC2019-44 and CP2019-47) (Order No. 4940).

92. Priority Mail Express, Priority Mail & First-Class Package Service Contract 49 (MC2019-72 and CP2019-77) (Order No. 4978).

93. Priority Mail Express Contract 72 (MC2019-112 and CP2019-121) (Order No. 5049).

Updated product list. The referenced changes to the product lists are incorporated into 39 CFR appendix A to subpart A of part 3020—Market Dominant Product List and 39 CFR appendix B to subpart A of part 3020—Competitive Product List.

List of Subjects in 39 CFR Part 3020

Administrative practice and procedure, Postal Service.

For the reasons discussed in the preamble, the Postal Regulatory Commission amends chapter III of title 39 of the Code of Federal Regulations as follows:

PART 3020—PRODUCT LISTS

1. The authority citation for part 3020 continues to read as follows:

Authority: 39 U.S.C. 503; 3622; 3631; 3642; 3682.

2. Revise appendices A and B to subpart A to read as follows:

Appendix A to Subpart A of Part 3020—Market Dominant Product List

(An asterisk (*) indicates an organizational class or group, not a Postal Service product.)

Part A—Market Dominant Products

1000 Market Dominant Product List

First-Class Mail *

Single-Piece Letters/Postcards

Presorted Letters/Postcards

Flats

Outbound Single-Piece First-Class Mail International

Inbound Letter Post

USPS Marketing Mail (Commercial and Nonprofit)*

High Density and Saturation Letters

High Density and Saturation Flats/Parcels

Carrier Route

Letters

Flats

Parcels

Every Door Direct Mail—Retail

Periodicals *

In-County Periodicals

Outside County Periodicals

Package Services *

Alaska Bypass Service

Bound Printed Matter Flats

Bound Printed Matter Parcels

Media Mail/Library Mail

Special Services*

Ancillary Services

International Ancillary Services

Address Management Services

Caller Service

Credit Card Authentication

International Reply Coupon Service

International Business Reply Mail Service

Money Orders

Post Office Box Service

Customized Postage

Stamp Fulfillment Services

Negotiated Service Agreements *

Domestic *

International *

Inbound Market Dominant Multi-Service Agreements with Foreign Postal Operators

Inbound Market Dominant Exprés Service Agreement 1

Inbound Market Dominant Registered Service Agreement 1

Inbound Market Dominant PRIME Tracked Service Agreement

Nonpostal Services *

Alliances with the Private Sector to Defray Cost of Key Postal Functions

Philatelic Sales

Market Tests *

Plus One

Appendix B to Subpart A of Part 3020—Competitive Product List

(An asterisk (*) indicates an organizational class or group, not a Postal Service product.)

Part B—Competitive Products

2000 Competitive Product List

Domestic Products *

Priority Mail Express

Priority Mail

Parcel Select

Parcel Return Service

First-Class Package Service

USPS Retail Ground

International Products *

Outbound International Expedited Services

Inbound Parcel Post (at UPU rates)

Outbound Priority Mail International

International Priority Airmail (IPA)

International Surface Air List (ISAL)

International Direct Sacks—M-Bags

Outbound Single-Piece First-Class Package International Service

Negotiated Service Agreements *

Domestic *

Priority Mail Express Contract 42

Priority Mail Express Contract 43

Priority Mail Express Contract 44

Priority Mail Express Contract 46

Priority Mail Express Contract 47

Priority Mail Express Contract 48

Priority Mail Express Contract 51

Priority Mail Express Contract 52

Priority Mail Express Contract 53

Priority Mail Express Contract 54

Priority Mail Express Contract 55

Priority Mail Express Contract 56

Priority Mail Express Contract 57

Priority Mail Express Contract 59

Priority Mail Express Contract 60

Priority Mail Express Contract 61

Priority Mail Express Contract 62

Priority Mail Express Contract 64

Priority Mail Express Contract 65

Priority Mail Express Contract 69

Priority Mail Express Contract 70

Priority Mail Express Contract 71

Priority Mail Express Contract 73

Priority Mail Express Contract 74

Priority Mail Express Contract 75

Priority Mail Express Contract 76

Priority Mail Express Contract 77

Priority Mail Express Contract 78

Parcel Return Service Contract 6

Parcel Return Service Contract 11

Parcel Return Service Contract 12

Parcel Return Service Contract 13

Parcel Return Service Contract 14

Parcel Return Service Contract 15

Parcel Return Service Contract 16

Priority Mail Contract 77

Priority Mail Contract 78

Priority Mail Contract 80

Priority Mail Contract 125

Priority Mail Contract 150

Priority Mail Contract 203

Priority Mail Contract 207

Priority Mail Contract 208

Priority Mail Contract 210

Priority Mail Contract 222

Priority Mail Contract 230

Priority Mail Contract 231

Priority Mail Contract 234

Priority Mail Contract 236

Priority Mail Contract 237

Priority Mail Contract 242

Priority Mail Contract 243

Priority Mail Contract 244

Priority Mail Contract 246

Priority Mail Contract 247

Priority Mail Contract 248

Priority Mail Contract 249

Priority Mail Contract 250

Priority Mail Contract 251

Priority Mail Contract 252

Priority Mail Contract 253

Priority Mail Contract 254

Priority Mail Contract 255

Priority Mail Contract 257

Priority Mail Contract 258

Priority Mail Contract 259

Priority Mail Contract 261

Priority Mail Contract 263

Priority Mail Contract 264

Priority Mail Contract 265

Priority Mail Contract 266

Priority Mail Contract 267

Priority Mail Contract 269

Priority Mail Contract 270

Priority Mail Contract 271

Priority Mail Contract 272

Priority Mail Contract 273

Priority Mail Contract 274

Priority Mail Contract 276

Priority Mail Contract 277

Priority Mail Contract 278

Priority Mail Contract 279

Priority Mail Contract 280

Priority Mail Contract 281

Priority Mail Contract 282

Priority Mail Contract 283

Priority Mail Contract 285

Priority Mail Contract 286

Priority Mail Contract 287

Priority Mail Contract 288

Priority Mail Contract 290

Priority Mail Contract 292

Priority Mail Contract 293

Priority Mail Contract 295

Priority Mail Contract 297

Priority Mail Contract 298

Priority Mail Contract 299

Priority Mail Contract 303

Priority Mail Contract 305

Priority Mail Contract 307

Priority Mail Contract 308

Priority Mail Contract 310

Priority Mail Contract 311

Priority Mail Contract 312

Priority Mail Contract 313

Priority Mail Contract 314

Priority Mail Contract 316

Priority Mail Contract 317

Priority Mail Contract 318

Priority Mail Contract 319

Priority Mail Contract 320

Priority Mail Contract 321

Priority Mail Contract 322

Priority Mail Contract 323

Priority Mail Contract 325

Priority Mail Contract 326

Priority Mail Contract 327

Priority Mail Contract 328

Priority Mail Contract 329

Priority Mail Contract 330

Priority Mail Contract 331

Priority Mail Contract 333

Priority Mail Contract 334

Priority Mail Contract 335

Priority Mail Contract 336

Priority Mail Contract 337

Priority Mail Contract 338

Priority Mail Contract 339

Priority Mail Contract 340

Priority Mail Contract 341

Priority Mail Contract 342

Priority Mail Contract 343

Priority Mail Contract 344

Priority Mail Contract 347

Priority Mail Contract 348

Priority Mail Contract 349

Priority Mail Contract 351

Priority Mail Contract 352

Priority Mail Contract 353

Priority Mail Contract 354

Priority Mail Contract 355

Priority Mail Contract 356

Priority Mail Contract 357

Priority Mail Contract 358

Priority Mail Contract 359

Priority Mail Contract 360

Priority Mail Contract 361

Priority Mail Contract 362

Priority Mail Contract 363

Priority Mail Contract 364

Priority Mail Contract 365

Priority Mail Contract 367

Priority Mail Contract 368

Priority Mail Contract 370

Priority Mail Contract 371

Priority Mail Contract 372

Priority Mail Contract 373

Priority Mail Contract 374

Priority Mail Contract 375

Priority Mail Contract 376

Priority Mail Contract 377

Priority Mail Contract 378

Priority Mail Contract 380

Priority Mail Contract 381

Priority Mail Contract 382

Priority Mail Contract 383

Priority Mail Contract 384

Priority Mail Contract 386

Priority Mail Contract 389

Priority Mail Contract 390

Priority Mail Contract 391

Priority Mail Contract 394

Priority Mail Contract 395

Priority Mail Contract 396

Priority Mail Contract 397

Priority Mail Contract 398

Priority Mail Contract 399

Priority Mail Contract 400

Priority Mail Contract 401

Priority Mail Contract 402

Priority Mail Contract 403

Priority Mail Contract 404

Priority Mail Contract 405

Priority Mail Contract 406

Priority Mail Contract 408

Priority Mail Contract 410

Priority Mail Contract 411

Priority Mail Contract 413

Priority Mail Contract 415

Priority Mail Contract 416

Priority Mail Contract 418

Priority Mail Contract 421

Priority Mail Contract 422

Priority Mail Contract 423

Priority Mail Contract 424

Priority Mail Contract 425

Priority Mail Contract 427

Priority Mail Contract 428

Priority Mail Contract 430

Priority Mail Contract 431

Priority Mail Contract 434

Priority Mail Contract 437

Priority Mail Contract 438

Priority Mail Contract 439

Priority Mail Contract 440

Priority Mail Contract 442

Priority Mail Contract 444

Priority Mail Contract 445

Priority Mail Contract 447

Priority Mail Contract 448

Priority Mail Contract 450

Priority Mail Contract 451

Priority Mail Contract 452

Priority Mail Contract 455

Priority Mail Contract 456

Priority Mail Contract 457

Priority Mail Contract 458

Priority Mail Contract 462

Priority Mail Contract 463

Priority Mail Contract 464

Priority Mail Contract 465

Priority Mail Contract 466

Priority Mail Contract 468

Priority Mail Contract 469

Priority Mail Contract 470

Priority Mail Contract 473

Priority Mail Contract 474

Priority Mail Contract 475

Priority Mail Contract 476

Priority Mail Contract 478

Priority Mail Contract 479

Priority Mail Contract 480

Priority Mail Contract 483

Priority Mail Contract 486

Priority Mail Contract 487

Priority Mail Contract 488

Priority Mail Contract 489

Priority Mail Contract 490

Priority Mail Contract 491

Priority Mail Contract 492

Priority Mail Contract 494

Priority Mail Contract 495

Priority Mail Contract 496

Priority Mail Contract 497

Priority Mail Contract 498

Priority Mail Contract 499

Priority Mail Contract 500

Priority Mail Contract 501

Priority Mail Contract 502

Priority Mail Contract 503

Priority Mail Contract 504

Priority Mail Contract 505

Priority Mail Contract 506

Priority Mail Contract 507

Priority Mail Contract 508

Priority Mail Contract 509

Priority Mail Contract 510

Priority Mail Contract 511

Priority Mail Contract 512

Priority Mail Contract 513

Priority Mail Contract 514

Priority Mail Contract 515

Priority Mail Contract 516

Priority Mail Contract 517

Priority Mail Contract 518

Priority Mail Contract 519

Priority Mail Contract 520

Priority Mail Contract 521

Priority Mail Contract 522

Priority Mail Contract 523

Priority Mail Contract 524

Priority Mail Contract 525

Priority Mail Contract 526

Priority Mail Contract 527

Priority Mail Contract 528

Priority Mail Contract 529

Priority Mail Contract 530

Priority Mail Contract 531

Priority Mail Contract 532

Priority Mail Contract 533

Priority Mail Contract 534

Priority Mail Contract 535

Priority Mail Contract 536

Priority Mail Contract 537

Priority Mail Contract 538

Priority Mail Contract 539

Priority Mail Contract 540

Priority Mail Contract 541

Priority Mail Contract 542

Priority Mail Contract 543

Priority Mail Contract 544

Priority Mail Contract 545

Priority Mail Contract 546

Priority Mail Contract 547

Priority Mail Contract 548

Priority Mail Contract 549

Priority Mail Contract 550

Priority Mail Contract 551

Priority Mail Express & Priority Mail Contract 12

Priority Mail Express & Priority Mail Contract 13

Priority Mail Express & Priority Mail Contract 18

Priority Mail Express & Priority Mail Contract 27

Priority Mail Express & Priority Mail Contract 29

Priority Mail Express & Priority Mail Contract 35

Priority Mail Express & Priority Mail Contract 36

Priority Mail Express & Priority Mail Contract 37

Priority Mail Express & Priority Mail Contract 38

Priority Mail Express & Priority Mail Contract 39

Priority Mail Express & Priority Mail Contract 41

Priority Mail Express & Priority Mail Contract 42

Priority Mail Express & Priority Mail Contract 43

Priority Mail Express & Priority Mail Contract 44

Priority Mail Express & Priority Mail Contract 45

Priority Mail Express & Priority Mail Contract 47

Priority Mail Express & Priority Mail Contract 48

Priority Mail Express & Priority Mail Contract 51

Priority Mail Express & Priority Mail Contract 53

Priority Mail Express & Priority Mail Contract 54

Priority Mail Express & Priority Mail Contract 55

Priority Mail Express & Priority Mail Contract 56

Priority Mail Express & Priority Mail Contract 57

Priority Mail Express & Priority Mail Contract 59

Priority Mail Express & Priority Mail Contract 62

Priority Mail Express & Priority Mail Contract 63

Priority Mail Express & Priority Mail Contract 64

Priority Mail Express & Priority Mail Contract 65

Priority Mail Express & Priority Mail Contract 66

Priority Mail Express & Priority Mail Contract 67

Priority Mail Express & Priority Mail Contract 68

Priority Mail Express & Priority Mail Contract 69

Priority Mail Express & Priority Mail Contract 70

Priority Mail Express & Priority Mail Contract 71

Priority Mail Express & Priority Mail Contract 72

Priority Mail Express & Priority Mail Contract 73

Priority Mail Express & Priority Mail Contract 74

Priority Mail Express & Priority Mail Contract 75

Priority Mail Express & Priority Mail Contract 77

Priority Mail Express & Priority Mail Contract 78

Priority Mail Express & Priority Mail Contract 79

Priority Mail Express & Priority Mail Contract 80

Priority Mail Express & Priority Mail Contract 81

Priority Mail Express & Priority Mail Contract 82

Priority Mail Express & Priority Mail Contract 83

Priority Mail Express & Priority Mail Contract 84

Priority Mail Express & Priority Mail Contract 85

Priority Mail Express & Priority Mail Contract 86

Priority Mail Express & Priority Mail Contract 87

Priority Mail Express & Priority Mail Contract 88

Priority Mail Express & Priority Mail Contract 89

Priority Mail Express & Priority Mail Contract 90

Priority Mail Express & Priority Mail Contract 91

Priority Mail Express & Priority Mail Contract 92

Priority Mail Express & Priority Mail Contract 93

Priority Mail Express & Priority Mail Contract 94

Priority Mail Express & Priority Mail Contract 95

Priority Mail Express & Priority Mail Contract 96

Priority Mail Express & Priority Mail Contract 97

Priority Mail Express & Priority Mail Contract 98

Parcel Select & Parcel Return Service Contract 3

Parcel Select & Parcel Return Service Contract 6

Parcel Select & Parcel Return Service Contract 7

Parcel Select & Parcel Return Service Contract 8

Parcel Select & Parcel Return Service Contract 9

Parcel Select Contract 9

Parcel Select Contract 11

Parcel Select Contract 17

Parcel Select Contract 19

Parcel Select Contract 20

Parcel Select Contract 22

Parcel Select Contract 25

Parcel Select Contract 26

Parcel Select Contract 27

Parcel Select Contract 28

Parcel Select Contract 29

Parcel Select Contract 32

Parcel Select Contract 34

Priority Mail—Non-Published Rates

Priority Mail—Non-Published Rates 1

First-Class Package Service Contract 38

First-Class Package Service Contract 45

First-Class Package Service Contract 55

First-Class Package Service Contract 64

First-Class Package Service Contract 65

First-Class Package Service Contract 66

First-Class Package Service Contract 67

First-Class Package Service Contract 68

First-Class Package Service Contract 69

First-Class Package Service Contract 71

First-Class Package Service Contract 72

First-Class Package Service Contract 73

First-Class Package Service Contract 75

First-Class Package Service Contract 76

First-Class Package Service Contract 77

First-Class Package Service Contract 78

First-Class Package Service Contract 79

First-Class Package Service Contract 81

First-Class Package Service Contract 82

First-Class Package Service Contract 85

First-Class Package Service Contract 87

First-Class Package Service Contract 89

First-Class Package Service Contract 90

First-Class Package Service Contract 91

First-Class Package Service Contract 92

First-Class Package Service Contract 93

First-Class Package Service Contract 94

First-Class Package Service Contract 95

First-Class Package Service Contract 96

First-Class Package Service Contract 97

First-Class Package Service Contract 98

First-Class Package Service Contract 99

First-Class Package Service Contract 100

First-Class Package Service Contract 101

First-Class Package Service Contract 102

Priority Mail Express, Priority Mail & First-Class Package Service Contract 7

Priority Mail Express, Priority Mail & First-Class Package Service Contract 11

Priority Mail Express, Priority Mail & First-Class Package Service Contract 12

Priority Mail Express, Priority Mail & First-Class Package Service Contract 13

Priority Mail Express, Priority Mail & First-Class Package Service Contract 14

Priority Mail Express, Priority Mail & First-Class Package Service Contract 15

Priority Mail Express, Priority Mail & First-Class Package Service Contract 16

Priority Mail Express, Priority Mail & First-Class Package Service Contract 17

Priority Mail Express, Priority Mail & First-Class Package Service Contract 18

Priority Mail Express, Priority Mail & First-Class Package Service Contract 19

Priority Mail Express, Priority Mail & First-Class Package Service Contract 20

Priority Mail Express, Priority Mail & First-Class Package Service Contract 21

Priority Mail Express, Priority Mail & First-Class Package Service Contract 23

Priority Mail Express, Priority Mail & First-Class Package Service Contract 24

Priority Mail Express, Priority Mail & First-Class Package Service Contract 25

Priority Mail Express, Priority Mail & First-Class Package Service Contract 26

Priority Mail Express, Priority Mail & First-Class Package Service Contract 27

Priority Mail Express, Priority Mail & First-Class Package Service Contract 28

Priority Mail Express, Priority Mail & First-Class Package Service Contract 29

Priority Mail Express, Priority Mail & First-Class Package Service Contract 30

Priority Mail Express, Priority Mail & First-Class Package Service Contract 31

Priority Mail Express, Priority Mail & First-Class Package Service Contract 32

Priority Mail Express, Priority Mail & First-Class Package Service Contract 35

Priority Mail Express, Priority Mail & First-Class Package Service Contract 36

Priority Mail Express, Priority Mail & First-Class Package Service Contract 37

Priority Mail Express, Priority Mail & First-Class Package Service Contract 38

Priority Mail Express, Priority Mail & First-Class Package Service Contract 39

Priority Mail Express, Priority Mail & First-Class Package Service Contract 40

Priority Mail Express, Priority Mail & First-Class Package Service Contract 42

Priority Mail Express, Priority Mail & First-Class Package Service Contract 43

Priority Mail Express, Priority Mail & First-Class Package Service Contract 44

Priority Mail Express, Priority Mail & First-Class Package Service Contract 45

Priority Mail Express, Priority Mail & First-Class Package Service Contract 46

Priority Mail Express, Priority Mail & First-Class Package Service Contract 47

Priority Mail Express, Priority Mail & First-Class Package Service Contract 48

Priority Mail Express, Priority Mail & First-Class Package Service Contract 50

Priority Mail Express, Priority Mail & First-Class Package Service Contract 51

Priority Mail Express, Priority Mail & First-Class Package Service Contract 52

Priority Mail Express, Priority Mail & First-Class Package Service Contract 53

Priority Mail Express, Priority Mail & First-Class Package Service Contract 54

Priority Mail Express, Priority Mail & First-Class Package Service Contract 55

Priority Mail Express, Priority Mail & First-Class Package Service Contract 56

Priority Mail Express, Priority Mail & First-Class Package Service Contract 57

Priority Mail Express, Priority Mail & First-Class Package Service Contract 58

Priority Mail Express, Priority Mail & First-Class Package Service Contract 59

Priority Mail Express, Priority Mail & First-Class Package Service Contract 60

Priority Mail Express, Priority Mail & First-Class Package Service Contract 61

Priority Mail Express, Priority Mail & First-Class Package Service Contract 62

Priority Mail Express, Priority Mail & First-Class Package Service Contract 63

Priority Mail Express, Priority Mail & First-Class Package Service Contract 64

Priority Mail Express, Priority Mail & First-Class Package Service Contract 65

Priority Mail Express, Priority Mail & First-Class Package Service Contract 66

Priority Mail & First-Class Package Service Contract 9

Priority Mail & First-Class Package Service Contract 17

Priority Mail & First-Class Package Service Contract 19

Priority Mail & First-Class Package Service Contract 20

Priority Mail & First-Class Package Service Contract 23

Priority Mail & First-Class Package Service Contract 24

Priority Mail & First-Class Package Service Contract 32

Priority Mail & First-Class Package Service Contract 34

Priority Mail & First-Class Package Service Contract 35

Priority Mail & First-Class Package Service Contract 36

Priority Mail & First-Class Package Service Contract 37

Priority Mail & First-Class Package Service Contract 38

Priority Mail & First-Class Package Service Contract 39

Priority Mail & First-Class Package Service Contract 40

Priority Mail & First-Class Package Service Contract 42

Priority Mail & First-Class Package Service Contract 43

Priority Mail & First-Class Package Service Contract 44

Priority Mail & First-Class Package Service Contract 45

Priority Mail & First-Class Package Service Contract 47

Priority Mail & First-Class Package Service Contract 48

Priority Mail & First-Class Package Service Contract 49

Priority Mail & First-Class Package Service Contract 50

Priority Mail & First-Class Package Service Contract 51

Priority Mail & First-Class Package Service Contract 52

Priority Mail & First-Class Package Service Contract 53

Priority Mail & First-Class Package Service Contract 54

Priority Mail & First-Class Package Service Contract 55

Priority Mail & First-Class Package Service Contract 56

Priority Mail & First-Class Package Service Contract 57

Priority Mail & First-Class Package Service Contract 58

Priority Mail & First-Class Package Service Contract 59

Priority Mail & First-Class Package Service Contract 60

Priority Mail & First-Class Package Service Contract 61

Priority Mail & First-Class Package Service Contract 62

Priority Mail & First-Class Package Service Contract 63

Priority Mail & First-Class Package Service Contract 64

Priority Mail & First-Class Package Service Contract 67

Priority Mail & First-Class Package Service Contract 69

Priority Mail & First-Class Package Service Contract 70

Priority Mail & First-Class Package Service Contract 71

Priority Mail & First-Class Package Service Contract 72

Priority Mail & First-Class Package Service Contract 73

Priority Mail & First-Class Package Service Contract 74

Priority Mail & First-Class Package Service Contract 75

Priority Mail & First-Class Package Service Contract 76

Priority Mail & First-Class Package Service Contract 77

Priority Mail & First-Class Package Service Contract 78

Priority Mail & First-Class Package Service Contract 79

Priority Mail & First-Class Package Service Contract 80

Priority Mail & First-Class Package Service Contract 81

Priority Mail & First-Class Package Service Contract 82

Priority Mail & First-Class Package Service Contract 83

Priority Mail & First-Class Package Service Contract 84

Priority Mail & First-Class Package Service Contract 85

Priority Mail & First-Class Package Service Contract 86

Priority Mail & First-Class Package Service Contract 87

Priority Mail & First-Class Package Service Contract 88

Priority Mail & First-Class Package Service Contract 89

Priority Mail & First-Class Package Service Contract 90

Priority Mail & First-Class Package Service Contract 91

Priority Mail & First-Class Package Service Contract 92

Priority Mail & First-Class Package Service Contract 93

Priority Mail & First-Class Package Service Contract 94

Priority Mail & First-Class Package Service Contract 95

Priority Mail & First-Class Package Service Contract 96

Priority Mail & First-Class Package Service Contract 97

Priority Mail & First-Class Package Service Contract 98

Priority Mail & First-Class Package Service Contract 99

Priority Mail & First-Class Package Service Contract 100

Priority Mail & First-Class Package Service Contract 101

Priority Mail & First-Class Package Service Contract 102

Priority Mail & First-Class Package Service Contract 103

Priority Mail & First-Class Package Service Contract 104

Priority Mail & First-Class Package Service Contract 105

Priority Mail & First-Class Package Service Contract 106

Priority Mail & First-Class Package Service Contract 107

Priority Mail & First-Class Package Service Contract 108

Priority Mail & First-Class Package Service Contract 109

Priority Mail & First-Class Package Service Contract 110

Priority Mail & First-Class Package Service Contract 111

Priority Mail & First-Class Package Service Contract 112

Priority Mail & First-Class Package Service Contract 113

Priority Mail & First-Class Package Service Contract 114

Priority Mail & First-Class Package Service Contract 115

Priority Mail & First-Class Package Service Contract 116

Priority Mail & First-Class Package Service Contract 117

Priority Mail & First-Class Package Service Contract 118

Priority Mail & Parcel Select Contract 2

Priority Mail Express & First-Class Package Service Contract 1

Priority Mail Express & First-Class Package Service Contract 2

Priority Mail Express & First-Class Package Service Contract 3

Outbound International *

Global Expedited Package Services (GEPS) Contracts

GEPS 3

GEPS 5

GEPS 6

GEPS 7

GEPS 8

GEPS 9

GEPS 10

GEPS 11

Global Bulk Economy (GBE) Contracts

Global Plus Contracts

Global Plus 1C

Global Plus 1D

Global Plus 1E

Global Plus 2C

Global Plus 3

Global Plus 4

Global Plus 5

Global Plus 6

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Global Expedited Package Services (GEPS)—Non-Published Rates 8

Global Expedited Package Services (GEPS)—Non-Published Rates 9

Global Expedited Package Services (GEPS)—Non-Published Rates 10

Global Expedited Package Services (GEPS)—Non-Published Rates 11

Global Expedited Package Services (GEPS)—Non-Published Rates 12

Global Expedited Package Services (GEPS)—Non-Published Rates 13

Global Expedited Package Services (GEPS)—Non-Published Rates 14

Priority Mail International Regional Rate Boxes—Non-Published Rates

Outbound Competitive International Merchandise Return Service Agreement with Royal Mail Group, Ltd.

Priority Mail International Regional Rate Boxes Contracts Priority Mail International Regional Rate Boxes Contracts 1

Competitive International Merchandise Return Service Agreements with Foreign Postal Operators

Competitive International Merchandise Return Service Agreements with Foreign Postal Operators 1

Competitive International Merchandise Return Service Agreements with Foreign Postal Operators 2

Alternative Delivery Provider (ADP) Contracts ADP 1

Alternative Delivery Provider Reseller (ADPR) Contracts ADPR 1

Inbound International *

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Royal Mail Group Inbound Air Parcel Post Agreement

Inbound Competitive Multi-Service Agreements with Foreign Postal Operators

Inbound Competitive Multi-Service Agreements with Foreign Postal Operators 1

Special Services *

Address Enhancement Services

Greeting Cards, Gift Cards, and Stationery

International Ancillary Services

International Money Transfer Service—Outbound

International Money Transfer Service—Inbound

Premium Forwarding Service

Shipping and Mailing Supplies

Post Office Box Service

Competitive Ancillary Services

Nonpostal Services *

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

Market Tests *

Darcie S. Tokioka,
Acting Secretary.

[FR Doc. 2019-24554 Filed 11-12-19; 8:45 am]

BILLING CODE 7710-FW-P